FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502 -3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before November 25, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-0806.

Title: Universal Service—Schools and Libraries Universal Service Program, FCC Forms 470 and 471.

Form Numbers: FCC Forms 470 and 471.

Type of Review: Revision of a currently approved collection.

Respondents: Business or other for-profit entities, not-for-profit institutions and state, local or tribal government.

Number of Respondents: 82,000 respondents; 82,000 responses.

Estimated Time per Response: Three hours to complete FCC Form 470 and four hours to complete FCC Form 471. Additionally, one-half hour (.5 hours) for each form for the five year recordkeeping requirement.

Frequency of Response: On occasion and annual reporting requirements, recordkeeping requirement and third party disclosure requirement.

Obligation to Respond: Required to obtain or retain benefits. Statutory authority for this information collection is contained in 47 U.S.C. sections 151-154, 201-205, 218,-220, 254, 303(r), 403 and 405 of the Communications Act of 1934, as amended.

Total Annual Burden: 334,000 hours.

Total Annual Cost: N/A.

Privacy Impact Assessment: N/A.

Nature and Extent of Confidentiality: The Commission is not requesting that respondents submit confidential information to the Commission. If the applicant requests confidential treatment of their information, they may request confidential treatment under 47 CFR 0.459 of the Commission's rules.

Needs and Uses: The Commission will submit this information collection after this comment period to obtain the full, three year clearance from the Office of Management and Budget (OMB). The Commission is requesting OMB approval for a revision to this information collection.

This submission proposes revisions to the FCC Form 470 and instructions and FCC Form 471 and instructions. The Commission is revising this collection in an effort to simplify the application process and to better collect information related to the broadband services being ordered by schools and libraries under the E-rate program. We propose collapsing the telecommunications services and Internet access categories into one category of service on the FCC Form 470 to simplify the application process. We also propose eliminating outdated questions that were originally designed to determine the impact of services and create new questions that will better gauge the technology and speed related to E-rate applicants' Internet and broadband connectivity. Specifically, Block 2 of the FCC Form 471, Impact of Service Ordered for Schools and Libraries from this Form 471, will be eliminated and questions asking about broadband and other connectivity services will be added to Block 5 for each funding request. The FCC Form 471 is also revised to allow applicants to indicate whether they are a federal entity. Further, in the Commission's attempt to reduce the number of active information collections, the Commission will incorporate the information collection requirements in OMB Control No. 3060-0774 into to this collection so it can be removed from the OMB inventory.

The Commission requests a total hourly burden change for FCC Forms 470 and 471 from 325,000 burden hours to 334,000 burden hours, which is an increase of 9,000 burden hours. The adjustment reflects updated information received from the Universal Service Administrative Company, the administrator of the schools and libraries universal service support program, and is based on actual participation in the program. Specifically, for the FCC Form 470, the Commission estimates that the number of respondents has remained the same at 35,000 based on the number of forms submitted for funding years 2012 and 2013 reported by USAC. For the FCC Form 471, the Commission estimates that the number of respondents has increased from 45,000 to 47,000 based on the increased number of submitted FCC Forms 471 in funding years 2012 and 2013 as reported by USAC.

The two FCC forms serve the functions of the Universal Service Schools and Libraries Support Mechanism, 47 U.S.C. 254 of the Communications Act of 1934, as amended. They are used at the point where services provided to the program are implemented, or are about to be implemented, and are a necessary prerequisite to the distribution of payments under the program.

Applicants in the E-rate program must submit an FCC Form 470 with a description of the services needed to USAC, which administers the fund. The information from the FCC Form 470 is then posted on USAC's Web site for all potential competing service providers to review. After waiting 28 days, the applicant can enter into an agreement for services. See 47 CFR 54.504(b). Applicants and consultants completing the FCC Form 470 must provide basic information on the form, including contact information and demographic information to assist in the processing of the application.

The FCC Form 471 must be filed each year by all E-rate applicants. Once a school or library has complied with the Commission's competitive bidding requirements and entered into an agreement for eligible services, it must file an FCC Form 471 application to notify USAC of the services that have been ordered, the service providers with whom the applicant has entered into an agreement, and an estimate of the funds needed to cover the discounts to be given for eligible services. See 47 CFR 54.504(c). Applicants must now provide their FCC Registration Number. See 47 CFR 1.8002 and 1.8003.

Besides basic information about the applicant or consultant filling out the form, the form gathers information about the broadband services that the school or library is currently using to help USAC determine the technological needs of the E-rate program. Since economically disadvantaged schools and rural schools receive a greater share of E-rate program funding, the form also contains a discount calculation worksheet for certifying the percentage of students eligible in that school for the national school lunch program (or other acceptable indicators of economic disadvantage determined by the Commission). See 47 CFR 54.505(b)(1). Similarly, libraries must make certifications about students eligible for national school lunch programs in nearby areas. See 47 CFR 54.505(b)(2). Since rural schools and libraries receive slightly more funding than urban participants, the FCC Form 471 requires applicant's demographic location. See 47 CFR 54.505(b)(3).

All of the requirements contained in this information collection are necessary to implement the congressional mandates regarding No Child Left Behind as well as the schools and libraries universal service support program process.

OMB Control Number: 3060-0819.

Title: Lifeline and Link Up Reform and Modernization, Advancing Broadband Availability Through Digital Literacy Training.

Form Numbers: FCC Forms 497, 481, 550, 555, and 560.

Type of Respondents: Individuals or households and business or other for profit.

Type of Review: Revision of a currently approved collection.

Number of Respondents and Responses: 41,806,827 respondents; 41,838,290 responses.

Estimated Time per Response: .25 hours—250 hours.

Frequency of Response: On occasion, quarterly, biennially, one time, monthly, and annual reporting requirements, third party disclosure requirements and recordkeeping requirements.

Obligation to Respond: Required to obtain or retain benefits. Statutory authority for this collection of information is contained in 47 U.S.C. sections 1, 4(i), 201-205, 214, 254 and 403 of the Communications Act of 1934, as amended.

Total Annual Burden: 24,184,565 hours.

Total Annual Cost: N/A.

Privacy Act Impact Assessment: Yes.

Nature and Extent of Confidentiality: The changes proposed in the 2012 Lifeline Reform Order affects individuals or households, and thus, there are impacts under the Privacy Act. As required by the Privacy Act of 1974, as amended, 5 U.S.C. 552a, the Commission will create a system of records notice (SORN) to cover the collection, storage, maintenance and disposal (when appropriate) of any personally identifiable information that the Commission may collect as part of the information collection. We note that USAC must preserve the confidentiality of all data obtained from respondents and contributors to the universal service support program mechanism, must not use the data except for purposes of administering the universal service support program mechanism, must not disclose data in company-specific form unless directed to do so by the Commission. If the Commission requests information that respondents believe is confidential, respondents may request confidential treatment of such information under 47 U.S.C. section 0.459 of the Commission's rules.

Needs and Uses: This collection is being submitted as a revision.

In this submission to the OMB, the Commission proposes to make administrative revisions to the FCC Form 555 to improve the clarity of the form and instructions. The Commission also proposes to revised FCC Form 555 Section 2 to require ETCs to report the number of subscribers claimed on their February FCC Form 497 for the current FCC Form 555 calendar year that were initially enrolled during that calendar year. Further, we propose to revise Section 3 to require the ETCs to report the percentage of de-enrolled subscribers. Finally, we propose to revise Section 4 to require the ETCs to identify whether they are “Pre-Paid ETC” that are in compliance with Section 54.407. See 47 CFR 54.407.

The Commission also proposes revision to the Broadband Pilot Program. The broadband pilot program is aimed at generating statistically significant data that will allow the Commission, ETCs, and the public to analyze the effectiveness of different approaches to using Lifeline funds to making broadband more affordable for low-income Americans while providing support that is sufficient but not excessive. By Order, on December 19, 2012, the Commission selected 14 projects to participate in the broadband pilot program. Therefore, there is no further need to solicit proposals from respondents for the Broadband Pilot Program. In this submission to the OMB, the Commission proposes to eliminate the call for Broadband Pilot Program proposals, which was included in the previous revision. The Commission also proposes revisions to FCC Form 550—Low Income Broadband Reimbursement From and FCC Form 560—Low Income Broadband Pilot Program Reporting Form). In the previous revision, the Commission estimated the number of respondents for the FCC Forms 550 and 560 because the pilot program participants had not been selected at that time. The Commission proposes revised calculations for the burden hours associated with the FCC Forms 550 and 560 based on the actual number of pilot program participants. See the Commission's 60 day notice published on August 23, 2013 (78 FR 52528) for further details.

OMB Control Number: 3060-0853.

Title: Certification by Administrative Authority to Billed Entity Compliance with the Children's Internet Protection Act Form, FCC Form 479; Certification of Compliance with the Children's Internet Protection Act and Technology Plan Requirements Form, FCC Form 486; and Funding Commitment Adjustment Request Form, FCC Form 500.

Form Numbers: FCC Forms 479, 486 and 500.

Type of Review: Revision of a currently approved collection

Respondents: Business or other for-profit, not-for-profit institutions, and state, local or tribal government.

Number of Respondents and Responses: 90,700 respondents, 90,700 responses.

Estimated Time per Response: 1-1.5 hours.

Frequency of Response: On occasion and annual reporting requirements, recordkeeping requirement and third party disclosure requirement.

Obligation to Respond: Required to obtain or retain benefits. Statutory authority for this information collection is contained in 47 U.S.C. 151-154, 201-205, 218-220, 254, 303(r), 403, and 405.

Total Annual Burden: 104,650 hours.

Total Annual Cost: NA.

Privacy Act Impact Assessment: N/A.

Nature and Extent of Confidentiality: The Commission is not requesting that respondents submit confidential information to the Commission. If the Commission requests applicants to submit information that the respondents believe is confidential, respondents may request confidential treatment of their information under 47 CFR 0.459 of the Commission's rules.

Needs and Uses: The Commission will submit this information collection to the Office of Management and Budget (OMB) as a revision to a currently approved collection.

This submission revises the FCC Form 479 and instructions, FCC Form 486 and instructions, and FCC Form 500 and instructions. FCC Forms 479 and 486 include revisions to existing certifications to improve clarity and ensure consistency with the Commission's rules. FCC Form 500 includes revisions that allow applicants the option to use the FCC Form 500 to: (1) Seek extensions of the implementation deadline for non-recurring services from the Universal Service Administrative Company (USAC) under 47 CFR 54.507(d) of the Commission's rules; and/or (2) notify USAC when they are transferring equipment within the three year prohibition on equipment transfers due to a permanent or temporary closure of school or library facilities under 47 CFR 54.413 of the Commission's rules.

The Commission requests a total hourly burden change for FCC Forms 479, 486 and 500 from 70,000 burden hours to 104,650 burden hours, which is an increase of 34,650 burden hours. We made adjustments in the burden hours for each of these forms to account for updated information received from the Universal Service Administrative Company, the administrator of the schools and libraries universal service support program. This estimate is based on actual participation in the program. Specifically, for the FCC Form 479, the Commission estimates that the number of respondents has increased from 10,000 to 10,300 based on the number of consortia participants for funding year 2011 and 2012 reported by USAC. For the FCC Form 486, the Commission estimates that the number of respondents has increased from 30,000 to 38,500 based on the increased number of submitted FCC Forms 486 as reported by USAC. For the FCC Form 500, the Commission increased the number of respondents from 5,000 to 6,900 based on the actual FCC Forms 500 submitted in funding year 2011 as reported by USAC and to account for the potential transfer of the requirements covered by information collections for OMB Control Numbers 3060-0992 and 3060-1062 to this information collection. The requirements covered by these collections are being moved to the FCC Form 500, and OMB Control Numbers 3060-0992 and 3060-1062 will be discontinued once this revision is approved. The burden hours were also adjusted to reflect the Commission's revised estimates of the hours required to update and maintain Internet safety policies. The Commission adjusts the number of respondents from 30,000 to 35,000 and adjusts the burden hours per response from .25 to .75. The Commission estimates that the number of respondents should be adjusted based on inclusion of the number of respondents for both the FCC Form 479 and FCC Form 486. The Commission estimates the initial year of compliance with the schools-only requirement to update Internet safety policies to provide for education of minors about appropriate online behavior, including interacting with other individuals on social networking Web sites and in chat rooms and cyber bullying awareness and response (as required by the Protecting Children in the 21st Century Act) will require .75 burden hours per response. This is an adjustment from the previously reported estimate of .25 burden hours per response.

The three FCC forms serve the functions of the Universal Service Schools and Libraries Support Mechanism, 47 U.S.C. 254 of the Communications Act of 1934, as amended. They are used at the point where services provided to the program are implemented, or are about to be implemented, and are a necessary prerequisite to the distribution of payments under the program.

FCC Forms 479 and 486 enable participants in the program to certify that they are compliant with the Children's Internet Protection Act (CIPA), 47 U.S.C. 254(h) and (l) when they seek discounts for Internet access, internal connections and basic maintenance of internal connections. With the exception of program participants who receive only telecommunications services, CIPA compliance is a necessary prerequisite to invoicing and payment. CIPA provides that schools and libraries that have computers with Internet access must certify that they have in place certain Internet safety policies and technology protection measures in order to be eligible to receive program services under section 254(h) of the Communications Act of 1934 (the Act), as amended. 47 CFR 54.520. FCC Form 486 also is the form that school and library applicants use to notify USAC of their service start date and certify compliance with E-rate program technology plan requirements.

School and library applicants use the FCC Form 500 to make adjustments to previously filed forms, such as changing the contract expiration date filed with the FCC Form 471, changing the funding year service start date filed with the FCC Form 486, or cancelling or reducing the amount of funding commitments.

All of the requirements contained in this information collection are necessary to implement the congressional mandates regarding access to the Internet by minors and adults as well as the schools and libraries universal service support program and reimbursement process.

Federal Communications Commission.
Marlene H. Dortch,
Secretary, Office of the Secretary, Office of Managing Director.

[FR Doc. 2013-24951 Filed 10-23-13; 8:45 am]

BILLING CODE 6712-01-P